FEDERAL MARITIME COMMISSION

Ocean Transportation Intermediary License Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 004661N.

Name: Jacob Fleishman Transportation, Inc.

Address: 1177 NW 81st Street, Miami, FL 33150.

Date Revoked: April 25, 2012.

Reason: Voluntarily surrendered license.

License Number: 020163N.

Name: Global Services of Nevada, Inc.

Address: 1607 Guilford Drive, Henderson, NV 89014.

Date Revoked: May 4, 2012.

Reason: Voluntarily surrendered license.

License Number: 021803NF.

Name: Skyline Customs Services, LLC.

Address: 7539 NW 52nd Street, Miami, FL 33166.

Date Revoked: April 30, 2012.

Reason: Voluntarily surrendered license.

Vern W. Hill,
Director, Bureau of Certification and Licensing.

[FR Doc. 2012-13215 Filed 5-30-12; 8:45 am]

BILLING CODE 6730-01-P